DEPARTMENT OF COMMERCE

National Institute of Standards and Technology

National Conference on Weights and Measures 107th Annual Meeting

AGENCY: National Institute of Standards and Technology, Commerce.

ACTION: Notice.

SUMMARY: The 107th Annual Meeting of the National Conference on Weights and Measures (NCWM) will be held in Tacoma, Washington from Sunday, July 10, 2022, through Thursday, July 14, 2022. This notice contains information about significant items on the NCWM Committee agendas but does not include all agenda items. As a result, the items are not consecutively numbered.

DATES: The 2022 Annual Meeting will be held from Sunday, July 10, 2022, through Thursday, July 14, 2022. The meeting schedule is available on the NCWM website at www.ncwm.com.

ADDRESSES: This meeting will be held at the Hotel Murano, 1320 Broadway Tacoma, Washington 98402.

FOR FURTHER INFORMATION CONTACT: Dr. Katrice Lippa, NIST, Office of Weights and Measures, 100 Bureau Drive, Stop 2600, Gaithersburg, MD 20899-2600. You may also contact Dr. Lippa at (301) 975-3116 or by email at katrice.lippa@nist.gov. The meeting is open to the public, but the payment of a registration fee is required. Please see the NCWM website (www.ncwm.com) to view the meeting agendas, registration forms, and hotel reservation information.

SUPPLEMENTARY INFORMATION: Publication of this notice on the NCWM's behalf is undertaken as a public service and does not itself constitute an endorsement by the National Institute of Standards and Technology (NIST) of the content of the notice. NIST participates in the NCWM as an NCWM member and pursuant to 15 U.S.C. 272(b)(10) and (c)(4) and in accordance with Federal policy (e.g., OMB Circular A-119 “Federal Participation in the Development and Use of Voluntary Consensus Standards”).

The NCWM is an organization of weights and measures officials of the states, counties, and cities of the United States, and representatives from the private sector and federal agencies. These meetings bring together government officials and representatives of business, industry, trade associations, and consumer organizations on subjects related to the field of weights and measures technology, administration, and enforcement. NIST hosted the first meeting of the NCWM in 1905. Since then, the conference has provided a model of cooperation between Federal, State, and local governments and the private sector. NIST participates to encourage cooperation between federal agencies and the states in the development of legal metrology requirements. NIST also promotes uniformity in state laws, regulations, and testing procedures used in the regulatory control of commercial weighing and measuring devices, packaged goods, and for other trade and commerce issues.

The NCWM has established multiple Committees, Task Groups, and other working bodies to address legal metrology issues of interest to regulatory officials, industry, consumers, and others. The following are brief descriptions of some of the significant agenda items that will be considered by some of the NCWM Committees at the NCWM Annual Meeting. Comments will be taken on these and other issues during several public comment sessions. At this stage, the items are proposals.

These notices are intended to make interested parties aware of these development projects and to make them aware that reports on the status of the project will be given at the 2022 Annual Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices” (NIST Handbook 44 or HB 44). Those items address weighing and measuring devices used in commercial applications, that is, devices that are used to buy from or sell to the public or used for determining the quantity of products or services sold among businesses. Issues on the agenda of the NCWM Laws and Regulations Committee (L&R Committee) relate to proposals to amend NIST Handbook 130, “Uniform Laws and Regulations in the area of Legal Metrology and Engine Fuel Quality” (NIST Handbook 130 or HB 130) and NIST Handbook 133, “Checking the Net Contents of Packaged Goods” (NIST Handbook 133 or HB 133).

NCWM S&T Committee (S&T 107th Annual Meeting)

The following items are proposals to amend NIST Handbook 44:

FRN-2022 Annual Meeting (S&T Items)

Item Block 2 (B2) Define True Value for Use in Error Calculations

BLK-2: (SCL-20.3, SCL-20.4, SCL-20.5, SCL-20.6, SCL-20.7, and SCL-20.8)

The S&T Committee will further consider a proposal that has been designated “Assigned” meaning that the Committee wants to allow more time for review by stakeholders and possibly further development to address concerns. This “block” proposal includes six individual items related to the application of NIST Handbook 44 requirements based on the values of a scale's verification scale division “e” or minimum scale division “d”. Adoption of this proposal would have a significant impact on high-precision scales of Accuracy Class I and II, particularly in cases where the values of “e” and “d” are not equal. Whereas the classification and accuracy of a scale are currently based on a scale's verification scale division “e” in NIST Handbook 44, when a scale's minimum scale division value “d” is different than its verification scale division “e” on Class I and II scales, the “d” value is the smaller of the two and makes possible the reading of the indication to a significantly higher resolution.

Item Block 4 (B4) Electronically Captured Tickets or Receipts

BLK-4: (GEN-21.2, LMD-21.2, VTM-21.1, LPG-21.1, CLM-21.1, MLK-21.1, MFM-21.2, CDL-21.1, HGM-21.1, and OTH-21.2)

The S&T Committee will further consider a proposal to allow for the expanded use of electronically captured tickets and receipts by amending NIST HB 44 Sections 1.10. General, 3.30. LMD, 3.31. VTM, 3.32. LPG, 3.34. CLM, 3.37. MFM, 3.38. CDL, 3.39. HGM, 3.35. Milk Meters, and the definition of “recorded representation” in Appendix D, Definitions. The Committee amended this carry-over block of items during the 2020 Interim Meeting based on comments it received expressing a continued need for printed tickets. As a result, the proposal now references NIST HB 44 paragraph G-S.5.6. Recorded Representation in various specific codes. At the 2021 NCWM Annual Meeting, this item remained “Developing” for further comment and consideration. At the 2022 Interim Meeting the S&T Committee again designated a “Developing” status for this block of items to provide stakeholders the opportunity for further review and additional comments on the various devices affected by this proposal.

LMD—Liquid Measuring Devices

LMD-21.1 Table S.2.2. Categories of Device Method of Sealing

The S&T Committee will further consider a proposal to amend NIST HB 44 Section 3.30. Liquid-Measuring Devices to permit the use of an electronic log, in lieu of a printed copy for devices with Category 3 sealing. The current “Category 3” sealing requirements in NIST HB 44 Liquid-Measuring Devices Code Section 3.30. specify that a printed copy of an event logger must be available on demand through the device or through another on-site device and that the information may also be available electronically. The new proposal would amend the language in Table S.2.2. “Categories of Device and Methods of Sealing” to permit either a printed or electronic form of the event logger be made available at time of inspection. This item, LMD-21.1 was previously a “block” item with LMD 20.1. Both items were similar proposals, so the submitters of both items agreed to withdraw LMD-20.1 and further develop LMD 21.1. At the 2021 NCWM Interim Meeting, the Committee agreed to withdraw item LMD-20.1 from the previous block of items and designated LMD-21.1 as a developing item so that the submitters of both items could work together to further develop item LMD-21.1. At the 2021 NCWM Annual Meeting this item remained “Developing” for further comments and consideration. At the 2022 NCWM Interim Meeting both industry and regulatory participants were in support of the changes to allow the option of printed or electronic format for event loggers, as a method of sealing for Liquid Measuring Devices. As such, the Committee designated a Voting status for this item.

VTM—Vehicle Tank Meters

VTM-18.1 S.3.1 Diversion of Measured Liquid and S.3.1.1. Means for Clearing the Discharge Hose and UR.2.6. Clearing the Discharge on a multiple-product, single discharge hose

The S&T Committee will further consider this item, which proposes to provide specifications and user requirements for manifold flush systems designed to eliminate product contamination on VTMs used for multiple products. This proposal would add specifications on the design of VTMs under S.3.1.1. “Means for Clearing the Discharge Hose.” and add a new user requirement UR.2.6. “Clearing the Discharge Hose.” During open hearings of previous NCWM meetings, comments were heard about the design of any system to clear the discharge hose of a product prior to the delivery of a subsequent product which could provide opportunities to fraudulently use this type of system. At the 2021 NCWM Annual Meeting this item remained ”Developing” for further comments and consideration. At the 2022 Interim Meeting the committee agreed to add a new paragraph UR.2.6.2., Minimizing Cross Contamination, to address issues raised about the possibility of cross contamination in receiving tanks with the use of this equipment. The committee designated a Voting status for this item.

EVF—Electric Vehicle Fueling Systems

EVF-20.1 S.1.3.2. EVSE Value of the Smallest Unit

The S&T Committee will further consider a proposal that would specify the maximum value of the indicated and/or recorded electrical energy unit used in an EVSE (Electric Vehicle Supply Equipment). This proposal would reduce (by a factor of 10) the current specified values of these units. The current maximum values of 0.005 MJ and 0.001 kWh would be changed to 0.0005 MJ and 0.0001 kWh respectively. The submitters contend that testing of these systems would be expedited through these changes and reduce the amount of time necessary to complete official tests. During the 2021 NCWM Annual Meeting additional changes were proposed to the Electric Vehicle Fueling System Code to add a new paragraph S.1.3.X to address how the value of the quantity unit shall be expressed and at this meeting this item remained “Developing” for further comments and consideration. At the 2022 Interim Meeting the Committee agreed to additional changes to the item under consideration to address how the smallest units can be expressed. Language was added such that the smallest unit for the megajoule is to be expressed as a decimal multiple or submultiple of 5 and the kilowatt-hour is to be expressed as a decimal multiple or submultiple of 1. The Committee designated a Voting status for this item.

GMA—Grain Moisture Meters 5.56. (A)

GMA-19.1 Table T.2.1. Acceptance and Maintenance Tolerances Air Oven Method for All Grains and Oil Seeds.

The S&T Committee will further consider a proposal that would reduce the tolerances for the air oven reference method in the Grain Moisture Meter Code. The proposed new tolerances would apply to all types of grains and oil seeds. This item is a carry-over proposal from 2019 and would replace the contents of Table T.2.1. with new criteria. Additional inspection data will be collected and reviewed to assess whether or not the proposed changes to the tolerances are appropriate. At the 2021 Annual Meeting this item remained “Developing” to review the results of additional data. At the 2022 Interim Meeting the Committee designated a Developing status for this item to allow for consideration of additional data.

TXI/TNS—Taximeters and Transportation Network Measurement Systems

Item BLOCK 3 (B3). Tolerances for Distance Testing in Taximeters and Transportation Network Measurement Systems.

The S&T Committee will further consider changes included in this block affecting the NIST HB 44 Taximeters Code (Section 5.54.) and the Transportation Network Measurement Systems (TNMS) Code (Section 5.60.) that would amend the value of tolerances allowed for distance tests. The changes proposed in this item would change the Taximeters Code requirement T.1.1. “On Distance Tests” by increasing that tolerance to 2.5% when the test exceeds one mile. The change to the TNMS Code affects paragraph T.1.1. “Distance Tests” by reducing the tolerance allowed on overregistration under T.1.1.(a) from the current 2.5% to 1% when the test does not exceed one mile and would increase the tolerance for underregistration in T.1.1.(b) from 2.5% to 4%. These changes if adopted would align the tolerances values for distance tests allowed for taximeters and TNMS. At the 2021 NCWM Annual Meeting it was noted that these items were being discussed with the USNWG. This item remained “Developing” for further comment and consideration. At the 2022 Interim Meeting the Committee designated a Developing status for this item and recommended that the submitter work with the USNWG to further develop the item.

NCWM L&R Committee

NIST Handbook 130 and NIST Handbook 133

The following items are proposals to amend NIST Handbooks 130 and 133:

Item Block 1 (B1)—Multiunit or Variety Packages (NIST HB 130 and HB 133)

The L&R Committee will be addressing a group of proposals that will include the adoption for creating a Chapter 5, Specialized Test Procedures in NIST HB 133 to verify the net quantity of contents of retail multiunit or variety packages. In addition, modified language will be addressed in the following sections of NIST HB 130, PAL-19.1. UPLR, Sec. 2.8. Multiunit Package. NET-19.2. NIST HB 133 Modify “scope” for Chapters 2 through 4, add a note following Sections 2.3.7.1. and 2.7.3., and clarifying Section 2.8. Multiunit.

Item MOS-22.4. Section 2.16. Compressed or Liquefied Gasses in Refillable Cylinders

The L&R Committee will consider proposed amendments to NIST HB 130, Method of Sale, Section 2.16. for the method of sale of Compressed or Liquefied Gases in Refillable Cylinders. The amendments are being considered so that existing NIST HB 130 requirements are not in conflict with new requirements published by the U.S. Department of Transportation (DOT) in a Final Rule—entitled Hazardous Materials: Miscellaneous Amendments Pertaining to DOT Specification Cylinders, which has been implemented in 49 CFR 178.35 . It is likely that the conflicting requirements in the Method of Sale of Commodities Regulation will be preempted by these (DOT) regulations because DOT has exclusive authority to regulate the safety and interstate commerce of this commodity.

Item MOS-20.5 Section 2.21 Liquefied Petroleum Gas

The L&R Committee will further consider a proposal to clarify the existing language for the method of sale of Liquefied Petroleum Gas. This will include changes to the existing language within NIST HB 130 that references a value of “15.6 °C” for temperature determinations in metric units. According to the current industry practice for sales of petroleum products, the reference temperature for sales in metric are based on 15 °C rather than the exact conversion from 60 °F (which is 15.6 °C). Thus, the temperature reference in metric should be 15 °C. This will also add language for metered sales with a maximum capacity equal to or greater than 20 gal/min will have a metering system that automatic temperature compensates. For metering systems with a maximum capacity less than 20 gal/min adding an effective date of January 2030 to all metered sales shall be accomplished using a metering system that automatic temperature compensates.

Item MOS 22.3. Section 2.4. Fireplace and Stove Wood

The Committee will consider a proposal to modify and provide clarity to the language as to how packaged natural wood and compressed firewood bricks shall be sold. This also clarifies the terms for plural and singular representation for the units.

Item 22.1. Uniform Labeling Regulation for Electronic Commerce (referred as e-commerce) Products

The L&R Committee will further consider a proposal that has been designated as an “Assigned” item, meaning that further development will be done by the Packaging and Labeling Subcommittee. This proposal would add a new regulation into NIST HB 130 that pertains to the labeling of products in e-commerce for consumer commodities and non-consumer commodities. This regulation will provide guidance to industry, as well as those states that adopt this regulation for the purpose of inspecting e-commerce websites. This regulation would also lay out the terms that shall appear on an e-commerce website. The development of this item will include outreach to stakeholders, including federal agencies. Adequate time should be considered for the implementation of this regulation for online retailers.

Item Block 3 Cannabis

B3: PALS -22.1. Section XX. Cannabis and Cannabis-Containing Products.¹

¹ In contrast to hemp, marijuana, defined as cannabis with a concentration of more than 0.3 percent on a dry weight basis, remains a Schedule I substance under the Controlled Substances Act (CSA). 21 U.S.C. 802(16); 21 U.S.C. 812(d); 21 CFR 1308.11(d)(23).

The Committee will further consider proposals to establish definitions within NIST HB 130 Packaging and Labeling Requirements for Cannabis and Cannabis containing products. In addition, PAL-22.2 Section 10.XX. Cannabis and Cannabis-Containing Products will establish labeling requirements. B3: NET-22.1. Section 1.XX. Cannabis and Cannabis-Containing Products and 2.XX. Cannabis and Cannabis-Containing Products. provides for a 3% moisture allowance for Cannabis containing more than 0.3% total Delta-9 THC or containing 0.3% less total Delta-9 THC (hemp). B3: MOS-22.2. HB130 Section 1.XX. and Section 2.XX. Cannabis and Cannabis-Containing Products. The Committee will consider a proposal to amend these two sections to include language for a method of sale for Cannabis. Included within this proposal is also a water activity limit of 0.60 (± 0.05), when unprocessed Cannabis is sold or transferred.

Alicia Chambers,
NIST Executive Secretariat.

[FR Doc. 2022-13541 Filed 6-24-22; 8:45 am]

BILLING CODE 3510-13-P